NEIGHBORHOOD REINVESTMENT CORPORATION

Audit Committee Meeting; Sunshine Act

TIME AND DATE: 2 p.m., Monday, October 27, 2014.

PLACE: NeighborWorks America—Gramlich Boardroom, 999 North Capitol Street NE., Washington, DC 20002.

STATUS: Open (with the exception of Executive Sessions).

CONTACT PERSON: Jeffrey Bryson, General Counsel/Secretary, (202) 760-4101; jbryson@nw.org.

AGENDA:

I. Call To Order

II. Executive Session with the Chief Audit Executive

III. Executive Session: Chief Audit Executive Performance Review

IV. Executive Session: CEO Transition Update

V. Executive Session: Pending Litigation

VI. Internal Audit Reports with Management's Response

VII. Internal Audit Status Reports

VIII. OHTS Watch List Review

IX. Update on A-133 Findings

X. Annual Audit Update & Other External Audit Reports

XI. Management Updates

XII. Adjournment

Jeffrey T. Bryson,
EVP & General Counsel/Corporate Secretary.

[FR Doc. 2014-25243 Filed 10-20-14; 4:15 pm]

BILLING CODE 7570-02-P